COMMITTEE FOR PURCHASE FROM PEOPLE WHO ARE BLIND OR SEVERELY DISABLED

41 CFR Part 51

RIN 3037-AA06

Adding New Military Resale Number Series

AGENCY: Committee for Purchase From People Who Are Blind or Severely Disabled.

ACTION: Final rule.

SUMMARY: The Committee for Purchase From People Who Are Blind or Severely Disabled (the Committee) has in its procurement program nonprofit agencies that sell products to military commissary stores for resale. The items sold are assigned to specific number series so that the nonprofit agencies, the Committee, and the military stores may identify the specific products. The number series are only used for identification of specific products sold in the military stores. These product numbers are internal only to the Committee, the nonprofit agencies, and the military commissaries. This proposed rule adds additional number series to the authorized series so that replacement products may have their own unique identifying numbers.

DATES: Effective Date: November 21, 2006.

ADDRESSES: The Committee office is located at Jefferson Plaza 2, Suite 10800, 1421 Jefferson Davis Highway, Arlington, VA 22202-3259.

FOR FURTHER INFORMATION CONTACT: For more information, contact Kimberly Zeich by telephone (703) 603-7740, or by facsimile at (703) 603-0030, or by mail at the Committee for Purchase From People Who Are Blind or Severely Disabled, 1421 Jefferson Davis Hwy., Suite 10800, Arlington, VA 22202-3259.

SUPPLEMENTARY INFORMATION: The Committee's regulation at 41 CFR 51-6.4, Military Resale Commodities, requires military commissary stores and other military resale outlets to stock certain products in the Committee's program, which are identified by special military resale number series. 41 CFR 51-6.4 references number series 400-, 500-, 800-, 900- and 1000-series, with the 800-, 900-, and 1000-series being stocked exclusively and all series being stocked in as broad a range as practicable. Additional number series are required because the numbers cannot be re-used after being assigned to a product. The expansion of the number series will not expand the scope of the military resale products, rather it will allow for the effective administration and maintenance of the military resale program at its current level. This final rule adds series 300-, 1100- and 10,000- (10,000-10,999) to 41 CFR 51-6.4(b); series 0- (0-99), 200-, 300-, 600-, 700-, 1100-, 1200- (1200-9999), and 10000- (10000-10999) to 41 CFR 51-6.4(c)(2) to be stocked in as broad a range as practicable; series 300-, 1100-, and 10000- (10000-10999) to 41 CFR 51-6.4(c)(4); and series 300-, 1100- and 10,000- (10,000-10,999) to 41 CFR 51-6.4(d).

Executive Order 12866: This agency has made the determination that this rule is not significant for the purposes of EO 12866.

Administrative Procedure Act: The Committee finds under 5 U.S.C. 553(b)(3)(B) that good cause exists to waive prior notice and opportunity for public comment. This final rule simply adds numbers to a series of number that already exist. These series are internal to this agency and have no impact on nonprofit agencies not working in the military resale area. National Industries for the Blind, a central nonprofit agency in the Committee's program, requested these specific number series on behalf of the nonprofit agencies that participate in the military resale arena. The Defense Commissary Agency also asked the Committee to take this action. Since both the Federal and nonprofit agencies requested these number series, it is highly unlikely that there would be any adverse comments on this rule. Because this amendment is not a substantive change to the regulation, it is unnecessary to provide notice and opportunity for public comment. Further, pursuant to 5 U.S.C. 553 (b)(3)(A), this rule of agency organization, procedure and practice is not subject to the requirement to provide prior notice and opportunity for public comment. The Committee also finds that the 30-day delay in effectiveness, required under 5 U.S.C. 553(d), is inapplicable because this rule is not a substantive rule. This final rule merely expands the series of item numbers for use in the military resale program.

Regulatory Flexibility Act: Because notice and opportunity for comment are not required pursuant to 5 U.S.C. 553 or any other law, the analytical requirements of the Regulatory Flexibility Act (5 U.S.C. 601 et seq.) are inapplicable. Therefore, a regulatory flexibility analysis is not required and has not been prepared.

List of Subjects in 41 CFR Part 51-6

Government procurement, Individuals with disabilities.

For the reasons set out in the preamble, Part 51-6 of Title 41, Chapter 51 of the Code of Federal Regulations is amended as follows:

PART 51-6—PROCUREMENT PROCEDURES

1. The authority citation for part 51.6 continues to read as follows:

Authority: 41 U.S.C. 46-48c.

2. Revise § 51-6.4 (b), (c)(2), (c)(4), and (d) to read as follows:

§ 51-6.4 Military resale commodities.

* * * * *

(b) Authorized resale outlets shall stock military resale commodities in as broad a range as practicable. Authorized resale outlets may stock commercial items comparable to military resale commodities they stock, except that military commissary stores shall stock military resale commodities in the 300-800-, 900-, 1000-, 1100-, and 10000- (10000-10999) series exclusively, unless an exception has been granted on an individual store basis for the stocking of comparable commercial items for which there is a significant customer demand. (c) * * *

(2) Require the stocking in commissary stores of military resale commodities in the 0- (0-99), 200-, 300-, 400-, 500-, 600-, 700-, 800-, 900-, 1000-, 1100-, 1200- (1200-9999), and 10000- (10000-10999) series in as broad a range as is practicable.

* * * * *

(4) Establish policies and procedures which reserve to its agency headquarters the authority to grant exceptions to the exclusive stocking of 300-, 800-, 900-, 1000-, 1100-, and 10000- (10000-10999) series military resale commodities.

(d) The Defense Commissary Agency shall provide the Committee a copy of each directive which relates to the stocking of military resale commodities in commissary stores, including exceptions authorizing the stocking of commercial items in competition with 300-, 800-, 900-, 1000-, 1100-, and 10000- (10000-10999) series military resale commodities.

* * * * *

Dated: November 17, 2006.
Patrick Rowe,
Deputy Executive Director, Committee for Purchase From People Who Are Blind or Severely Disabled.

[FR Doc. E6-19664 Filed 11-20-06; 8:45 am]

BILLING CODE 6353-01-P